Title 3—

The President

Proclamation 9431 of April 28, 2016

Jewish American Heritage Month, 2016

By the President of the United States of America

A Proclamation

At America's birth, our Founders fought off tyranny and declared a set of ideals—including life, liberty, and the pursuit of happiness—that would forever guide our country's course. For generations since, Jewish Americans, having shared in the struggle for freedom, have been instrumental in ensuring our Nation stays true to the principles enshrined in our founding documents. They have helped bring about enduring progress in every aspect of our society, shaping our country's character and embodying the values we hold dear. This month, as we pay tribute to their indelible contributions, we recommit to ridding our world of bigotry and injustice and reflect on the extraordinary ways in which Jewish Americans have made our Union more perfect.

Many of the Jewish people who reached our Nation's shores throughout our history did so fleeing the oppression they encountered in areas around the world. Driven by the possibility of charting a freer future, they endeavored, on their own and as a community, to make real the promise of America—in their individual lives and in the life of our country. Determined to confront the racism that kept this promise from being fully realized, many Jewish Americans found a cause in the Civil Rights Movement that—in its call for freedom and justice—echoed the timeless message of Exodus and the Jewish people's journey through the ages. Reflecting on the march in Selma, Rabbi Abraham Joshua Heschel once noted, “I felt my legs were praying.” From the fight for women's rights to LGBT rights to workers' rights, many in the Jewish American community, drawing on lessons from their own past, have trumpeted a clarion call for equality and justice.

We cannot pay proper respect to the legacy of Jewish Americans without also reflecting on the rise of anti-Semitism in many parts of the world, and in remembering the lessons of the Holocaust, we recognize the imperative need to root out prejudice. Subjecting men, women, and children to persecution on the basis of their ancestry and faith, the scourge of anti-Semitism demands that we declare through action and solidarity that an attack on one faith is an attack on all faiths. That is why the United States is leading the international effort to combat anti-Semitism—we helped organize the first United Nations General Assembly meeting on anti-Semitism last year, and we are asking countries around the world to join us in giving this challenge the focus it demands. In celebrating Jewish Americans' contributions to our country, we also reaffirm our unshakeable commitment to Israel's security and the close bonds between our two nations and our peoples. Throughout my Administration, the multifaceted relationship between our countries has grown and strengthened to an unprecedented degree, particularly with regard to U.S.-Israeli security assistance and cooperation.

The Jewish American experience and our Nation as a whole have always been held together by the forces of hope and resilience. During Jewish American Heritage Month, as we reflect on our past and look toward the future, let us carry forward our mutual legacy, grounded in our interconnected roots, and affirm that it is from the extraordinary richness of our bond that we draw strength. And let us renew our dedication to the work of building a fully inclusive tomorrow—one where a great diversity of origins is not only accepted, but also celebrated—here at home and around the world.

NOW, THEREFORE, I, BARACK OBAMA, President of the United States of America, by virtue of the authority vested in me by the Constitution and the laws of the United States, do hereby proclaim May 2016 as Jewish American Heritage Month. I call upon all Americans to visit www.JewishHeritageMonth.gov to learn more about the heritage and contributions of Jewish Americans and to observe this month with appropriate programs, activities, and ceremonies.

IN WITNESS WHEREOF, I have hereunto set my hand this twenty-eighth day of April, in the year two thousand sixteen, and of the Independence of the United States of America the two hundred and fortieth.

[FR Doc. 2016-10504

Filed 5-2-16; 11:15 am]

Billing code 3295-F6-P